DEPARTMENT OF COMMERCE

International Trade Administration

[Application No. 08-00005]

Export Trade Certificate of Review

ACTION: Notice of Application for an Export Trade Certificate of Review From Redberri Global Corporation.

SUMMARY: Export Trading Company Affairs (“ETCA”), International Trade Administration, Department of Commerce, has received an application for an Export Trade Certificate of Review (“Certificate”). This notice summarizes the conduct for which certification is sought and requests comments relevant to whether the Certificate should be issued.

FOR FURTHER INFORMATION CONTACT: Jeffrey Anspacher, Director, Export Trading Company Affairs, International Trade Administration, by telephone at (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether a Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Export Trading Company Affairs, International Trade Administration, U.S. Department of Commerce, Room 7021X, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 08-00005.” A summary of the application follows.

Summary of the Application

Applicant: Redberri Global Corporation (“Redberri”), 3152 Cherokee Street, Saint Louis, Missouri 63118.

Contact: Dr. Deepak K. Vyas, Chief Executive Officer, Telephone: (314) 776-8927.

Application No.: 08-00005.

Date Deemed Submitted: April 7, 2008.

Members (in addition to applicant): None.

Redberri seeks a Certificate to cover the following specific Export Trade, Export Markets, and Export Trade Activities and Methods of Operations.

Export Trade

A. Products

All Products, with emphasis on products that incorporate technologies such as bio-technology, software, nanotechnology, telemedicine, and other related technologies.

B. Services

All Services.

C. Technology Rights

Technology rights, including, but not limited to, patents, trademarks, copyrights, and trade secrets, that relate to product and services.

D. Export Trade Facilitation Services (as They Relate to the Export of Products, Services, and Technology Rights)

Export Trade Facilitation Services include professional services in the areas of government relations and assistance with state and federal programs; foreign trade and business protocol; consulting; market research and analysis; collection of information on trade opportunities; export trade negotiations; joint ventures; logistical support; export management; export licensing; advertising; documentation and services related to compliance with customs requirements; insurance and financing; trade show exhibitions; organizational development; management and labor strategies; and transfer of technology.

Export Markets

The Export Markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operation

1. Redberri, on its own behalf or on behalf of any or all of its clients may:

a. Sales Prices: Establish sale prices, minimum sale prices, target sale prices and/or minimum target sale prices, and other terms of sale, in the Export Markets;

b. Marketing and Distribution: Conduct marketing and distribution of Products in the Export Markets.

c. Promotion: Conduct promotion of Products, Services, and Technology Rights in the Export Markets;

d. Quantities: Agree on quantities of Products to be sold, provided that each client shall be required to dedicate only such quantity or quantities as each such client shall independently determine.

e. Market and Customer Allocation: Allocate geographic areas or countries in the Export Markets and/or customers in the Export Markets;

f. Refusals to Deal: Refuse to quote prices for Products and Services or to market or sell Products and Services, to or for any customers in the Export Markets, or any countries or geographical areas in the Export Markets;

g. Exclusive and Nonexclusive Export Intermediaries: Enter into exclusive and nonexclusive agreements appointing one or more Export Intermediaries, including regional representatives in the Export Markets, for the sale of Products and Services with price, quantity, territorial and/or customer restrictions as provided above;

2. Redberri may exchange and discuss the following information with Suppliers and Export Intermediaries on an individual, one-to-one basis:

a. Information about sale and marketing efforts for the Export Markets, activities and opportunities for sales of Products in the Export Markets, selling strategies for the Export Markets, sales for the Export Markets, contract and spot pricing in the Export Markets, projected demands in the Export Markets for Products, customary terms of sale in the Export Markets, prices and availability of Products from competitors for sale in the Export Markets, and specifications for Products by customers in the Export Markets;

b. Information about the price, quality, quantity, source, and delivery dates of Products available from Suppliers for export;

c. Information about terms and conditions of contracts for sale in the Export Markets to be considered and/or bid on by Redberri;

d. Information about joint bidding or selling arrangements for the Export Markets and allocations of sales resulting from such arrangements among clients;

e. Information about expenses specific to exporting to and within the Export Markets, including without limitation, transportation, trans- or intermodal shipments, insurance, inland freight to port, port storage, commissions, export sales, documentation, financing, customs, duties, and taxes;

f. Information about U.S. and foreign legislation and regulations, including federal marketing order programs, affecting sales for the Export Markets;

g. Information about Redberri's export operations, including without limitation, sales and distribution networks established by Redberri or its clients in the Export Markets (including export price information); and

h. Information about export customer credit terms and credit history.

3. Redberri and its clients may meet to engage in the activities described in paragraphs 1 and 2 above.

4. Redberri and its clients may jointly participate in international trade shows and technology summits.

5. Redberri may market Products, Services, and Technology Rights under Aquaglobex, Redberri, BIE, USTOOLCITI, Toolciti, Aquaglobal, Medicalciti or U.S. Pneumatic and other brands to optimize its brand name recognition.

6. Redberri Global Corporation intends to develop world class infrastructure to develop international trade for U.S.-made products and optimize global sales of American products through innovative incubation, brand development, market management, and technology development.

7. Form and operate electronic portals to promote Products, Services, and Technology Rights through a virtual marketplace for buyers and sellers, and provide access to export trade opportunities, including publicly available overseas government tenders and non-governmental organization tenders.

8. With respect to the sale of Products and Services, licensing of Technology Rights and provision of Export Trade Facilitation Services, Redberri may:

a. Provide and/or arrange for the provision of Export Trade Facilitation Services;

b. Engage in promotional and marketing activities and collect information on trade opportunities in the Export Markets and distribute such information to clients;

c. Enter into exclusive and/or nonexclusive licensing and/or sales agreements with Suppliers for the export of Products, Services, and/or Technology Rights to the Export Markets;

d. Allocate export sales or divide Export Markets among Suppliers for the sale and/or licensing of Products, Services, and/or Technology Rights;

e. Allocate export orders among Suppliers;

f. Establish the price of Products, Services, and/or Technology Rights for sales and/or licensing in the Export Markets; and

g. Negotiate, enter into, and/or manage licensing agreements for the export of Technology Rights.

Definition

“Export Intermediary” means a person who acts as a distributor, sales representative, sales or marketing agent, import agent, broker, or who performs similar functions including providing or arranging for the provision of Export Trade Facilitation Services.

“Supplier” means a person who produces, provides, or sells Products, Services, and/or Technology Rights.

Dated: April 15, 2008.
Jeffrey Anspacher,
Director, Export Trading Company Affairs.

[FR Doc. E8-8520 Filed 4-17-08; 8:45 am]

BILLING CODE 3510-DR-P